DEPARTMENT OF ENERGY

Federal Energy Regulatory Commission

Combined Notice of Filings #1

Take notice that the Commission received the following exempt wholesale generator filings:

Docket Numbers: EG14-89-000.

Applicants: Longhorn Wind Project, LLC.

Description: Notice of Self-Certification of Exempt Wholesale Generator Status of Longhorn Wind Project, LLC.

Filed Date: 8/21/14.

Accession Number: 20140821-5058.

Comments Due: 5 p.m. e.t. 9/11/14.

Docket Numbers: EG14-90-000.

Applicants: TX Hereford Wind, LLC.

Description: Notice of Self-Certification of Exempt Wholesale Generator Status of TX Hereford Wind, LLC.

Filed Date: 8/21/14.

Accession Number: 20140821-5097.

Comments Due: 5 p.m. e.t. 9/11/14.

Docket Numbers: EG14-91-000.

Applicants: Catalina Solar 2, LLC.

Description: Notice of Self-Certification of Exempt Wholesale Generator Status of Catalina Solar 2, LLC.

Filed Date: 8/21/14.

Accession Number: 20140821-5101.

Comments Due: 5 p.m. e.t. 9/11/14.

Take notice that the Commission received the following electric rate filings:

Docket Numbers: ER14-1822-002.

Applicants: New York Independent System Operator, Inc.

Description: NYISO filing: restart decision period for MOB Agreement with TC Ravenswood to be effective 5/1/2014.

Filed Date: 8/20/14.

Accession Number: 20140820-5175.

Comments Due: 5 p.m. e.t. 9/10/14.

Docket Numbers: ER14-2683-000.

Applicants: Consolidated Edison Company of New York, Inc.

Description: Consolidated Edison Company of New York, Inc. submits Notice of Cancellation of Service Agreement Nos. 49, 50, and 51.

Filed Date: 8/21/14.

Accession Number: 20140821-5027.

Comments Due: 5 p.m. e.t. 9/11/14.

Docket Numbers: ER14-2684-000.

Applicants: Southwest Power Pool, Inc.

Description: 1154R10 Associated Electric Cooperative NITSA and NOA to be effective 7/1/2014.

Filed Date: 8/21/14.

Accession Number: 20140821-5036.

Comments Due: 5 p.m. e.t. 9/11/14.

Docket Numbers: ER14-2685-000.

Applicants: Midcontinent Independent System Operator, Inc.

Description: 2014-08-21_SA 2687 METC-New Covert FCA (T94) to be effective 8/22/2014.

Filed Date: 8/21/14.

Accession Number: 20140821-5051.

Comments Due: 5 p.m. e.t. 9/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2014.
Nathaniel J. Davis, Sr.,
Deputy Secretary.

[FR Doc. 2014-20503 Filed 8-27-14; 8:45 am]

BILLING CODE 6717-01-P